DEPARTMENT OF THE TREASURY

Submission for OMB Review; Comment Request

September 20, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 26, 2000 to be assured of consideration.

Internal Revenue Service (IRS)

OMB Number: 1545-0052.

Form Number: IRS Forms 990-PF and 4720.

Type of Review: Revision.

Title: Return of Private Foundation or Section 4947(a)(1) Nonexempt Charitable Trust Treated as a Private Foundation (990-PF); and Return of Certain Excise Taxes on Charities and Other Persons Under Chapters 41 and 42 of the Internal Revenue Code (4720).

Description: Internal Revenue Code (IRC) section 6033 requires all private foundations, include section 4947(a)(1) trusts treated as private foundations, to file an annual information return. Section 53.4940-1(a) of the Income Tax Regulations requires that the tax on net investment income be reported on the return filed under section 6033. Form 990-PF is used for this purpose. Section 6011 requires a report of taxes under Chapter 42 of the Code for prohibited acts by private foundation and certain related parties. Form 4720 is used by foundations and/or related persons to report prohibited activities in detail and pay the tax on them.

Respondents: Not-for-profit institutions.

Estimated Number of Respondents/Recordkeepers: 54,000.

Estimated Burden Hours Per Respondent/Recordkeeper:

| Form 990-PF | Form 4720
Recordkeeping | 140 hr., 37 min | 39 hr., 56 min.
Learning about the law or the form | 27 hr.,40 min. | 16 hr., 31 min.
Preparing the form | 32 hr., 7 min. | 23 hr., 29 min.
Copying, assembling, and sending the form to the IRS | 16 min | 1 hr., 36 min.

Frequency of Response: Annually.

Estimated Total Reporting/Recordkeeping Burden: 10,901,853 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-24683 Filed 9-25-00; 8:45 am]

BILLING CODE 4830-01-U